SMALL BUSINESS ADMINISTRATION

Committee Management; Notice of Renewal

The Administrator of the U.S. Small Business Administration (SBA) has determined that the renewal of the North Florida District Advisory Council is necessary and in the public interest in connection with the performance of duties imposed upon the Administrator, U.S. Small Business Administration by 15 U.S.C. 633. This determination follows consultation with the Management Secretariat, General Services Administration.

Name of Committee: North Florida District Advisory Council.

Purpose and Objective: The Council provides advice and opinions regarding the effectiveness of and need for SBA programs, particularly within the local districts which members represent. Its members provide an essential connection between SBA, SBA program participants, and the local small business community.

Balanced Membership Plans: The required minimum membership is 9 members. SBA selects members predominately from the private sector, including people from such industries as retail, manufacturing, and financial services. Members also include representatives from academia, the media, and appropriate federal, state and local agencies.

Duration: Continuing.

Responsible SBA Officials: Wilfredo Gonzalez, District Director, North Florida District Office, U.S. Small Business Administration, 7825 Baymeadows Way, Suite 100-B, Jacksonville, FL 32256.

Meredith Davis,
Committee Management Officer.

[FR Doc. E8-613 Filed 1-15-08; 8:45 am]

BILLING CODE 8025-01-P